DEPARTMENT OF TRANSPORTATION

Federal Aviation Administration

14 CFR Part 71

[Docket FAA No. FAA-2007-28649; Airspace Docket No. 07-ANM-10]

Establishment of Class E Airspace; Wheatland, WY

AGENCY: Federal Aviation Administration (FAA), DOT.

ACTION: Final rule; correction.

SUMMARY: This action corrects a final rule published in the Federal Register January 8, 2008 (73 FR 1271), Airspace Docket No. 07-ANM-10, FAA Docket No. FAA-2007-28649. In that rule, an error was made in the legal description for Wheatland, WY. Specifically, the latitude referencing Wheatland, Phifer Airfield, WY stated “* * * lat. 43°03′20″ N.” instead of “* * * lat. 42°03′20″ N.” This action corrects that error.

DATES: Effective Date: 0901 UTC, April 10, 2008. The Director of the Federal Register approves this incorporation by reference action under 1 CFR part 51, subject to the annual revision of FAA Order 7400.9 and publication of conforming amendments.

FOR FURTHER INFORMATION CONTACT: Eldon Taylor, Federal Aviation Administration, System Support Group, Western Service Area, 1601 Lind Avenue, SW., Renton, WA 98057; telephone (425) 203-4537.

SUPPLEMENTARY INFORMATION:

History

On January 8, 2008, a final rule for Airspace Docket No. 07-ANM-10, FAA Docket No. FAA-2007-28649 was published in the Federal Register (73 FR 1271), establishing Class E airspace in Wheatland, WY. The latitude referencing Wheatland, Phifer Airfield, WY was incorrect in that the latitude stated “* * * lat. 43°03′20″ N.” instead of “* * * lat. 42°03′20″ N.” This action corrects that error.

Correction to Final Rule

Accordingly, pursuant to the authority delegated to me, the legal description as published in the Federal Register on January 8, 2008 (73 FR 1271), Airspace Docket No. 07-ANM-10, FAA Docket No. FAA-2007-28649, and incorporated by reference in 14 CFR 71.1, is corrected as follows:

§ 71.1 [Amended]

On page 1271, correct the legal description for Wheatland, WY, to read as follows:

Paragraph 6005 Class E airspace areas extending upward from 700 feet or more above the surface of the earth.

* * * * *

ANM WY E5 Wheatland, WY [New]

Wheatland, Phifer Airfield, WY

(Lat. 42°03′20″ N., long. 104°55′43″ W.)

That airspace extending upward from 700 feet above the surface within a 9-mile radius of Phifer Airfield, WY and within 4 miles north and 4 miles south of the Phifer Airfield, WY 080° radial extending from the 9-mile radius to 12.90 miles east of the Phifer Airfield, WY.

* * * * *

Issued in Seattle, Washington, on January 14, 2008.
Clark Desing,
Manager, System Support Group, Western Service Center.

[FR Doc. E8-1846 Filed 2-1-08; 8:45 am]

BILLING CODE 4910-13-P